DEPARTMENT OF DEFENSE

Office of the Secretary of Defense

[DoD-2007-OS-0132]

Privacy Act of 1974; Systems of Records

AGENCY: Defense Finance and Accounting Service, DOD.

ACTION: Notice to add a new System of Records.

SUMMARY: The Defense Finance and Accounting Service (DFAS) is proposing to add a system of records notice to its inventory of record systems subject to the Privacy Act of 1974, (5 U.S.C. 552a), as amended.

DATES: This action will be effective without further notice on January 16, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on December 11, 2006, to the House Committee on Government Reform, the Senate Committee on Governmental Affairs, and the Office of Management and Budget (OMB) pursuant to paragraph 4c of Appendix I to OMB Circular No. A-130, `Federal Agency Responsibilities for Maintaining Records About Individuals,' dated December 12, 2000, 65 FR 239.

Dated: December 11, 2007.
L.M. Bynum,
Alternative OSD Federal Register Liaison Officer, Department of Defense.

T7040

System name:

Work Year and Personnel Cost Reporting.

System location:

Defense Information Systems Agency (DISA), Defense Enterprise Computing Center (DECC) Mechanicsburg—Bldg. 308, Naval Support Activity (NSA), 5450 Carlisle Pike, Mechanicsburg, PA 17050-2411.

Categories of individuals covered by the system:

Department of Defense Navy civilian employees.

Categories of records in the system:

Individual's name, Social Security Numbers (SSN), work year and personnel cost data for U.S. Navy civilian employees.

Authority for maintenance of the system: 5 U.S.C. 301, Departmental Regulations; Department of Defense Financial Management Regulation (DoDFMR) 7000.14-R, Vol. 4; 31 U.S.C. Sections 3511 and 3513; and E.O. 9397 (SSN).

Purpose(s):

This system will be the financial system of record and the single source for consolidated financial information for the Navy civilian employees. It will support the core financial requirements for the Work Year and Personnel Cost Reporting (WYPC).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' published at the beginning of the DoD compilation of systems of records notices apply to this system.

Policies and practices for storing, retrieving, accessing, retaining, and disposing of records in the system:

Storage:

Records in files folders and electronic storage media.

Retrievability:

Individual's name and Social Security Number (SSN).

Safeguards:

Records are stored in an office building protected by guards, controlled screening, use of visitor registers, electronic access, and/or locks. Access to records is limited to individuals who are properly screened and cleared on a need-to-know basis in the performance of their duties. Passwords are used to control access to the system data, and procedures are in place to detect and deter browsing and unauthorized access.

Retention and disposal:

Records are temporary in nature; cut off at the end of the fiscal year; and destroyed 3 years after cutoff. Records are destroyed by degaussing, burning, or shredding.

System manager(s) and address:

System Manager, Defense Finance and Accounting Service, Systems Management Directorate, Navy Working Capital Fund Systems Office, 1240 East Ninth Street, Cleveland, OH 44199-8002.

Notification procedure:

Individuals seeking to determine whether information about themselves is contained in this record system should address written inquiries to the Defense Finance and Accounting Service, Freedom of Information/Privacy Act Program Manager, Corporate Communications and Legislative Liaison, 6760 E. Irvington Place, Denver, CO 80279-8000.

Requests will contain individual's full name, Social Security Number (SSN), current address, telephone number, and provide a reasonable description of what they are seeking.

Record access procedures:

Individuals seeking access to information about themselves that is contained in this system should address written inquiries to Defense Finance and Accounting Service, Freedom of Information/Privacy Act Program Manager, Corporate Communications and Legislative Liaison, 6760 E. Irvington Place, Denver, CO 80279-8000.

Requests will contain individual's full name, Social Security Number (SSN), current address, telephone number, and provide a reasonable description of what they are seeking.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From individuals, and U.S. Navy.

Exemptions claimed for the system:

None.

[FR Doc. E7-24376 Filed 12-14-07; 8:45 am]

BILLING CODE 5001-06-P